DEPARTMENT OF JUSTICE

Notice of Consent Judgments Pursuant to the Comprehensive Environmental Response, Compensation and Liability Act

In accordance with Departmental Policy, 28 CFR 50.7, 38 Fed. Reg. 19029, and 42 U.S.C. 9622(d), notice is hereby given that two proposed consent decrees in United States v. Champion Chemical Company, Inc., Imperial Oil Company, Inc., Emil Stevens and June Stevens, DOJ # 90-11-2-946, Civ. No. 96-1521 (AET), were lodged in the United States District Court for the District of New Jersey on December 7, 2000. The consent decrees resolve or partially resolve the liability of defendants Champion Chemical Company, Inc., Imperial Oil Company, Inc., Emil Stevens, and June Stevens under Sections 107(a) and 106(b) of the Comprehensive Environmental Response, Compensation and Liability Act (“CERCLA”), 42 U.S.C. 9607(a) and 9606(b), relating to the Imperial Oil Company, Inc./Champion Chemical Superfund Site located in Marlboro Township, Monmouth County, New Jersey (the “Imperial Site”). The consent decrees also resolve the liability of these settling defendants under Section 107(a) of CERCLA, 42 U.S.C. 9607(a), for the Burnt Fly Bog Superfund Site located within Marlboro Township and Old Bridge Township, New Jersey (the “Burnt Fly Bog Site”).

Under the proposed consent decree between the United States, Champion Chemical Company, Inc. (“Champion”), Imperial Oil Company, Inc. (“Imperial”), and the State of New Jersey, settling defendants Champion and Imperial, based on their representations of a limited ability to pay, will make payments toward reimbursement of the United States' response costs for the Imperial Site and the Burnt Fly Bog Site. These payments, totaling at least $1.375 million (additional amounts are owed as a percentage of profits), will be deposited into site special accounts for the Imperial Site and the Burnt Fly Bog Site to fund future response actions. Settling defendants will also pay to United States and/or to the State of New Jersey a portion of their insurance recoveries related to the sites and proceeds from the sale of property at the Imperial Site. Additionally, Champion and Imperial will jointly pay the sum of $75,000 as a civil penalty for violations of EPA's unilateral administrative orders for the Imperial Site. In return, the United States and the State will provide to Champion and Imperial covenants not to sue as to (a) past response costs incurred in connection with the Imperial Site and (b) past and future response costs incurred in connection with the Burnt Fly Bog Site.

Under the proposed consent decree between the United States, Emil Stevens and June Stevens, the settling defendants agree to pay to the United States $300,000 toward the Imperial Site and $100,000 toward the Burnt Fly Bog Site in reimbursement of response costs incurred in connection with the two sites. These amounts will be deposited into site special accounts for the Imperial Site and the Burnt Fly Bog Site to fund future response actions. The settling defendants also agree to limit their future involvement with, and income, from Champion and Imperial. In return, the United States will provide to Emil and June Stevens covenants not to sue as to past and future response costs incurred in connection with the Imperial Site and the Burnt Fly Bog Site.

The Department of Justice will receive, for a period of thirty (30) days from the date of this publication, written comments relating to the proposed consent decrees. Comments should be addressed to the Assistant Attorney General for the Environment and Natural Resources Division, Department of Justice, Washington, DC 20530, and should refer to United States v. Champion Chemical Company, Inc., et al., DOJ # 90-11-2-946. The proposed consent decrees may be examined at the Office of the United States Attorney, District of New Jersey, 402 East State Street, Room 502, Trenton, New Jersey 08608; and at the Region II Office of the U.S. Environmental Protection Agency, 290 Broadway, New York, New York 10278. Copies of the Consent Decree may be obtained by mail from the Consent Decree Library, United States Department of Justice, P.O. Box 7611, Ben Franklin Station, Washington, DC 20044. In requesting a copy of the consent decree between the United States, Champion, Imperial, and the State of New Jersey, please enclose a check in the amount of $15.25 (25 cents per page reproduction costs) payable to the Consent Decree Library. In requesting a copy of the consent decree between the United States, Emil Stevens, and June Stevens, please enclose a check in the amount of $11.00 (25 cents per page reproduction costs) payable to the Consent Decree Library.

Bruce Gelber,
Chief, Environmental Enforcement Section, Environment and Natural Resources Division.

[FR Doc. 00-33056 Filed 12-27-00; 8:45 am]

BILLING CODE 4410-15-M